OFFICE OF PERSONNEL MANAGEMENT

5 CFR Part 532

RIN 3206-AJ60

Prevailing Rate Systems; Change in the Survey Cycle for the Portland, Oregon, Appropriated Fund Wage Area

AGENCY: Office of Personnel Management.

ACTION: Final rule.

SUMMARY: The Office of Personnel Management is issuing a final rule to change the timing of local wage surveys in the Portland, Oregon, appropriated fund Federal Wage System wage area. This change will help the Department of Defense (DOD) balance its wage survey workload. DOD will conduct full-scale wage surveys in the Portland wage area in August of each even-numbered fiscal year, beginning in August 2002.

Effective Date: This regulation is effective on September 3, 2002.

FOR FURTHER INFORMATION CONTACT: Chenty I. Carpenter at (202) 606-2838; by FAX at (202) 606-4264; or by e-mail at cicarpen@opm.gov.

SUPPLEMENTARY INFORMATION: On April 24, 2002, the Office of Personnel Management (OPM) published an interim rule (67 FR 20009) to change the timing of local wage surveys in the Portland, Oregon, appropriated fund Federal Wage System (FWS) wage area. The interim rule had a 30-day public comment period, during which we received no comments. Full-scale wage surveys currently begin in August of each odd-numbered fiscal year. Full-scale wage surveys will begin in the future in August of each even-numbered fiscal year. Under 5 CFR 532.207, the scheduling of wage surveys takes into consideration the best timing in relation to wage adjustments in the principal local private enterprise establishments, a reasonable distribution of the workload of the lead agency, the timing of surveys for nearby wage areas, and scheduling relationships with other pay surveys.

The Department of Defense (DOD) asked OPM to change the starting time for local wage surveys in the Portland, Oregon, wage area to August of even-numbered fiscal years to balance the overall workload of its survey office. DOD conducted a full-scale survey in Portland in August of 2001 and will conduct another full-scale wage survey in Portland in August 2002.

The Federal Prevailing Rate Advisory Committee, the national labor-management committee responsible for advising OPM on matters concerning the pay of FWS employees, recommended by consensus that we change the full-scale survey cycle for the Portland wage area from August of each odd-numbered fiscal year to August of each even-numbered fiscal year.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

Office of Personnel Management.
Kay Coles James,
Director.

Accordingly, under the authority of 5 U.S.C. 5343, the interim rule (67 FR 20009) amending 5 CFR part 532 published on April 24, 2002, is adopted as final with no changes.

[FR Doc. 02-19459 Filed 7-31-02; 8:45 am]

BILLING CODE 6325-39-P